DEPARTMENT OF ENERGY

Federal Energy Regulatory Commission

[Docket No. EC01-64-000, et al.]

PPL Global, LLC, et al.; Electric Rate and Corporate Regulation Filings

February 12, 2001.

Take notice that the following filings have been made with the Commission:

1. PPL Global, LLC; PP&L Southwest Generation Holdings, LLC; PPL Energy Supply, LLC; PPL Generation, LLC; and Griffith Energy LLC

[Docket No. EC01-64-000]

Take notice that on February 5, 2001, PPL Global, LLC; PP&L Southwest Generation Holdings, LLC; PPL Energy Supply, LLC; PPL Generation, LLC; and Griffith Energy LLC (collectively Applicants) filed with the Federal Energy Regulatory Commission an application pursuant to section 203 of the Federal Power Act for approval of an intra-corporate restructuring involving the transfer of PPL Global's ownership interest in PP&L Southwest Generation Holdings, LLC to PPL Generation.

Comment date: February 26, 2001, in accordance with Standard Paragraph E at the end of this notice.

2. PPL Energy Supply, LLC and PPL Generation, LLC, on Behalf of Themselves and Their Public Utility Subsidiaries

[Docket No. EC01-65-000]

Take notice that on February 5, 2001, PPL Energy Supply, LLC and PPL Generation, LLC, on behalf of themselves and their public utility subsidiaries (collectively Applicants) filed with the Federal Energy Regulatory Commission an application pursuant to section 203 of the Federal Power Act for approval of an intra-corporate restructuring involving the insertion of a newly-formed upstream corporate entity in the Applicants' ownership structure so that certain financing benefits may be obtained.

Comment date: February 26, 2001, in accordance with Standard Paragraph E at the end of this notice.

3. Nevada Power Company, Reid Gardner Power LLC, and Clark Power LLC

[Docket No. EC01-66-000]

Take notice that on February 7, 2001, Nevada Power Company (Nevada Power), Reid Gardner Power LLC (Reid Gardner Power), and Clark Power LLC (Clark Power), filed with the Federal Energy Regulatory Commission an application pursuant to section 203 of the Federal Power Act and Part 33 of the Commission's Regulations for authorization of a disposition of jurisdictional facilities associated with Nevada Power's sale of its interests in the 605 MW Reid Gardner and the 684 MW Clark Generating Stations to Reid Gardner Power and Clark Power, respectively. The Applicants state that they request confidential treatment of certain data used in the analysis of the affect of the transaction on competition, and have submitted a proposed Protective Order governing such data.

Comment date: April 9, 2001, in accordance with Standard Paragraph E at the end of this notice.

4. Indian Mesa Power Partners I LP

[Docket No. EG01-118-000]

Take notice that on February 7, 2001, Indian Mesa Partners I LP, 13000 Jameson Road, Tehachapi, California 93561 (Indian Mesa I), filed with the Federal Energy Regulatory Commission an application for determination of exempt wholesale generator status pursuant to Part 365 of the Commission's regulations.

Indian Mesa I is an indirect subsidiary company of Enron Corp. Indian Mesa I will build and own a wind turbine generation facility (the “Indian Mesa I Facility”) near Iraan, Texas. The Indian Mesa I Facility will consist of seventeen (17) wind turbines, with an aggregate nameplate capacity of approximately twenty-five (25) megawatts. Electric energy produced by the Indian Mesa I Facility will be sold to City Public Service, the municipal gas and electric utility of the City of San Antonio, Texas.

Comment date: March 5, 2001, in accordance with Standard Paragraph E at the end of this notice. The Commission will limit its consideration of comments to those that concern the adequacy or accuracy of the application.

5. ONEOK Power Marketing Company

[Docket No. ER98-3897-007]

Take notice that on February 5, 2001, ONEOK Power Marketing Company (OPMC) filed a Notification of Change in Status in compliance with the reporting requirements of the Federal Energy Regulatory Commission's Letter Order dated September 8, 1998. OPMC plans to construct a gas-fired power plant in Logan County, Oklahoma with peak capacity of 338 Mw. OPMC also intends to sell energy and capacity from the new generation facility at market based rates under its FERC Rate Schedule No. 2.

Comment date: February 26, 2001, in accordance with Standard Paragraph E at the end of this notice.

6. Arizona Public Service Company

[Docket No. ER01-1190-000]

Take notice that on February 7, 2001, Arizona Public Service Company filed with the Federal Energy Regulatory Commission (Commission), a Notice of Cancellation of Service Agreement No. 47 under FERC Electric Tariff, First Revised Volume No. 3.

Comment date: February 28, 2001, in accordance with Standard Paragraph E at the end of this notice.

7. The Narragansett Electric Company

[Docket No. ER01-1191-000]

Take notice that on February 7, 2001, The Narragansett Electric Company (Narragansett) submitted for filing a Notice of Cancellation of FERC Electric Rate Schedule 44.

Narragansett requests that cancellation be effective the 1st day of May, 2000.

Comment date: February 28, 2001, in accordance with Standard Paragraph E at the end of this notice.

8. Niagara Mohawk Power Corporation

[Docket No. ER01-1192-000]

Take notice that on February 7, 2001, Niagara Mohawk Power Corporation tendered for filing an Interconnection Agreement between Niagara Mohawk Power Corporation and Model City Energy, L.L.C., dated and effective as of January 25, 2001.

Niagara Mohawk Power Corporation requests an Interconnection Agreement effective date of January 25, 2001.

Comment date: February 28, 2001, in accordance with Standard Paragraph E at the end of this notice.

9. Sempra Energy

Docket No. ER01-1193-000

Take notice that on February 7, 2001, Sempra Energy tendered for filing pursuant to Rule 205, 18 CFR 385.205, a petition for waivers and blanket approvals under various regulations of the Commission and for an order accepting its FERC Electric Rate Schedule No. 1 authorizing Sempra Energy to make sales at market-based rates.

Sempra Energy has requested waiver of the Commission's regulations to permit an effective date of February 7, 2001.

Sempra Energy intends to sell electric power and ancillary services at wholesale. In transactions where Sempra Energy sells electric power or ancillary services it proposes to make such sales on rates, terms, and conditions to be mutually agreed to with the purchasing party. Rate Schedule No. 1 provides for the sale of energy and capacity and ancillary services at agreed prices.

Comment date: February 28, 2001, in accordance with Standard Paragraph E at the end of this notice.

10. Nevada Power Company, Reid Gardner Power LLC, Clark Power LLC

[Docket No. ER01-1194-000]

Take notice that on February 7, 2001, Nevada Power Company (Nevada Power), Reid Gardner Power LLC (Reid Gardner Power) and Clark Power LLC (Clark Power) tendered for filing pursuant to Section 205 of the Federal Power revised Transition Power Purchase Agreements (TPPAs). This filing is intended to implement the divestiture of Nevada Power's interest in the Reid Gardner and Clark Generating Stations to Reid Gardner Power and Clark Power, respectively. In addition to implementing changes to the TPPAs negotiated as part of the divestiture, the filing redesignates the TPPAs as Reid Gardner and Clark Power rate schedules.

Comment date: February 28, 2001, in accordance with Standard Paragraph E at the end of this notice.

11. Tucson Electric Power Company

[Docket No. ER01-1195-000]

Take notice that on February 8, 2001, Tucson Electric Power Company (Tucson) tendered for filing one (1) umbrella service agreement (for short-term firm service) and one (1) service agreement (for non-firm service) pursuant to Part II of Tucson's Open Access Transmission Tariff, which was filed in Docket No. ER00-771-000.

The details of the service agreements are as follows:

Umbrella Agreement for Short-Term Firm Point-to-Point Transmission Service dated as of February 1, 2001 by and between Tucson Electric Power Company and Idaho Power Company FERC Electric Tariff Vol. No. 2, Service Agreement No. 153. No service has commenced at this time.

Form of Service Agreement for Non-Firm Point-to Point Transmission Service dated as of February 1, 2001 by and between Tucson Electric Power Company and Idaho Power Company—FERC Electric Tariff Vol. No. 2, Service Agreement No. 154. No service has commenced at this time.

Tucson requests an effective date of February 1, 2001.

Comment date: March 1, 2001, in accordance with Standard Paragraph E at the end of this notice.

12. Los Angeles Department of Water and Power, California Power Exchange

[Docket No. ER01-1196-000]

Take notice that on February 7, 2001, the Los Angeles Department of Water and Power (Los Angeles) tendered for filing a Notice of Termination of its Participation Agreement with the California Power Exchange (CalPX). Please take further notice that on January 22, 2001, Los Angeles tendered for filing a Notice of Termination of its Meter Service Agreement with the CalPX.

Los Angeles requests any waivers as may be necessary to make termination of its Participation Agreement effective January 19, 2001 and termination of its Meter Service Agreement effective April 22, 2001.

Los Angeles states that it has given the PX Notice of Termination pursuant to the PX Tariff, which Los Angeles asserts should be sufficient to effect termination. If such notice is found to be insufficient by the Commission, Los Angeles states that it makes this filing to insure termination of said agreements.

Los Angeles states that this filing has been served on the California Power Exchange.

Comment date: February 28, 2001, in accordance with Standard Paragraph E at the end of this notice.

13. Virginia Electric and Power Company

[Docket No. ER01-1197-000]

Take notice that on February 8, 2001, Virginia Electric and Power Company (The Company) tendered for filing an Assignment and Assumption Agreement indicating that the Service Agreement for Non-Firm Point-to-Point Transmission Service dated February 28, 1997, originally entered into by and between Ohio Edison Company and Virginia Electric and Power Company, and assigned to FirstEnergyCorp. by letter order on September 30, 1999 in Docket No. ER99-4348-000, is now being assigned to FirstEnergy Services Corp. Under the assignment, the Assignor assigns to the Assignee and the Assignee assumes all of the Assignor's rights and obligations pertaining to the above referenced agreement with Virginia Electric and Power Company (the Company), which will be designated as Second Revised Service Agreement No. 39 under FERC Electric Tariff, Second Revised Volume No. 5.

The Company requests waiver of the Commission's notice requirement to permit an effective date of the assignments of January 1, 2001, the effective date requested by FirstEnergy Services Corp.

Copies of this filing were served upon FirstEnergy Services Corp., the Virginia State Corporation Commission and the North Carolina Utilities Commission.

Comment date: March 1, 2001, in accordance with Standard Paragraph E at the end of this notice.

14. Cinergy Services, Inc.

[Docket No. ER01-1198-000]

Take notice that on February 8 , 2001, Cinergy Services, Inc. (Provider) tendered for filing a Firm Point-To-Point Service Agreement under Cinergy's Open Access Transmission Service Tariff (OATT) entered into between Provider and Cinergy Services, Inc. (Customer) (AREF#69515905).

This service agreement has a yearly firm transmission service with Northern Indiana Public Service Company via the Gibson Unit Nos. 1-5 Generating Station.

Provider and Customer are requesting an effective date of February 1, 2001.

Comment date: March 1, 2001, in accordance with Standard Paragraph E at the end of this notice.

15. Cinergy Services, Inc.

[Docket No. ER01-1199-000]

Take notice that on February 8, 2001, Cinergy Services, Inc. (Provider) tendered for filing a Firm Point-To-Point Service Agreement under Cinergy's Open Access Transmission Service Tariff (OATT) entered into between Provider and Cinergy Services, Inc. (Customer) (AREF#69482656).

This service agreement has a yearly firm transmission service with Louisville Operating Companies via the Gibson Unit Nos. 1-5 Generating Station.

Provider and Customer are requesting an effective date of February 1, 2001.

Comment date: March 1, 2001, in accordance with Standard Paragraph E at the end of this notice.

16. Cinergy Services, Inc.

[Docket No. ER01-1200-000]

Take notice that on February 8, 2001, Cinergy Services, Inc. (Cinergy) tendered for filing a Service Agreement under Cinergy's Resale, Assignment or Transfer of Transmission Rights and Ancillary Service Rights Tariff (the Tariff) entered into between Cinergy and FPL Energy Power Marketing, Inc. (FPL).

Cinergy and FPL are requesting an effective date of February 1, 2001.

Comment date: March 1, 2001, in accordance with Standard Paragraph E at the end of this notice.

17. Niagara Mohawk Power Corporation

[Docket No. ER01-1201-000]

Take notice that on February 8, 2001, Niagara Mohawk Power Corporation tendered for filing two temporary interconnection agreements between Niagara Mohawk Power Corporation and Green Island Power Authority as regards the Green Island Hydro facilities output of generated electricity to the interconnected system of Niagara Mohawk Power Corporation. One agreement is the Temporary Direct Interconnection Agreement, dated July 27, 2000. The other agreement is the Temporary Interconnection Agreement, dated July 10, 2000.

Niagara Mohawk Power Corporation requests an Interconnection Agreement effective date of July 10, 2000 for each.

Comment date: March 1, 2001, in accordance with Standard Paragraph E at the end of this notice.

18. Electric Energy, Inc.

[Docket No. ER01-1202-000]

Take notice that on February 8, 2001, Electric Energy, Inc. (EEInc.) tendered for filing an executed Transmission Service Agreement for Firm Point-to-Point Transmission Service between EEInc. and Dynegy Marketing & Trade (Dynegy).

Under the Transmission Service Agreement, EEInc. will provide Firm Point-to-Point Transmission Service to Dynegy pursuant to EEInc.'s open access transmission tariff filed in compliance with Order No. 888 and allowed to become effective by the Commission.

EEInc. has requested that the Service Agreement be allowed to become effective as of April 1, 2001 and seeks all waivers necessary for an April 1, 2001 effective date.

Copies of this filing have been sent to Dynegy.

Comment date: March 1, 2001, in accordance with Standard Paragraph E at the end of this notice.

19. Electric Energy, Inc.

[Docket No. ER01-1203-000]

Take notice that on February 8, 2001, Electric Energy, Inc. (EEInc.) tendered for filing an executed Transmission Service Agreement for Non-Firm Point-to-Point Transmission Service between EEInc. and Dynegy Marketing & Trade (Dynegy).

Under the Transmission Service Agreement, EEInc. will provide Non-Firm Point-to-Point Transmission Service to Dynegy pursuant to EEInc.’s open access transmission tariff filed in compliance with Order No. 888 and allowed to become effective by the Commission.

EEInc. has requested that the Service Agreement be allowed to become effective as of April 1, 2001 and seeks all waivers necessary for an April 1, 2001 effective date.

Copies of this filing have been sent to Dynegy.

Comment date: March 1, 2001, in accordance with Standard Paragraph E at the end of this notice.

20. Arizona Public Service Company

Docket No. ER01-1204-000

Take notice that on February 8, 2001, Arizona Public Service Company (APS) filed a Notice of Cancellation of service agreement No. 11 under FERC Electric Tariff First Revised Volume No. 3 between APS and Sonat Power Marketing, L.P. (Sonat)

Comment date: March 1, 2001, in accordance with Standard Paragraph E at the end of this notice.

Standard Paragraohs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 01-4066 Filed 2-16-01; 8:45 am]

BILLING CODE 6717-01-P